DEPARTMENT OF THE INTERIOR

Fish and Wildlife Service

Availability of the Final Comprehensive Conservation Plan and Environmental Impact Statement for Rocky Flats National Wildlife Refuge

AGENCY: Fish and Wildlife Service, Department of the Interior.

ACTION: Notice of availability.

SUMMARY: The U.S. Fish and Wildlife Service (Service) announces that the Final Comprehensive Conservation Plan and Environmental Impact Statement (Final CCP/EIS) for the Rocky Flats National Wildlife Refuge (Refuge) is available. This Final CCP/EIS was prepared pursuant to the National Wildlife Refuge System Administration Act, as amended, and the National Environmental Policy Act (NEPA). The Final CCP/EIS describes the Service's proposal for management of the Refuge for 15 years, beginning at Refuge establishment, which is anticipated to occur sometime between 2006 and 2008. Four alternatives for management of the Refuge are considered in the CCP/EIS.

DATES: A Record of Decision will be signed no sooner than 30 days after publication of this notice.

ADDRESSES: To request a copy of the Final CCP/EIS, contact Laurie Shannon, Planning Team Leader, Rocky Flats National Wildlife Refuge, Rocky Mountain Arsenal—Building 121, Commerce City, Colorado 80222. Additionally, copies of the Final CCP/EIS may be downloaded from the project Web site: http://rockyflats.fws.gov. The Final CCP/EIS will be available for reading at the following main branch libraries: Arvada Public Library, Boulder Public Library, Daniels Library, Golden Public Library, Westminster Public Library, Front Range Community College, Louisville Public Library, Thornton Public Library, and Mamie Dowd Eisenhower Library in Broomfield.

FOR FURTHER INFORMATION CONTACT: Laurie Shannon, Planning Team Leader at the above address or at 303-289-0980.

SUPPLEMENTARY INFORMATION: The 6,240-acre Rocky Flats National Wildlife Refuge site is in northern Jefferson County and southern Boulder County, Colorado. The Rocky Flats site was used as a nuclear weapons production facility until 1992, when the mission of Rocky Flats changed to environmental cleanup and closure. The majority of the site has remained undisturbed for over 50 years and provides habitat for many wildlife species, including the federally threatened Preble's meadow jumping mouse, and several rare plant communities. Under the Rocky Flats National Wildlife Refuge Act of 2001, most of the site will become a National Wildlife Refuge once cleanup and closure has been completed. The Refuge will likely be established sometime between 2006 and 2008.

The National Wildlife Refuge System Administration Act of 1966, as amended by the National Wildlife Refuge Improvement Act of 1997, requires the Service to develop a CCP for the Refuge. The purpose in developing a CCP is to provide refuge managers with a 15-year strategy for achieving refuge purposes and contributing toward the mission of the National Wildlife Refuge System, consistent with sound principles of fish and wildlife science, conservation, legal mandates, and Service policies. In addition to outlining broad management direction on conserving wildlife and their habitats, the CCP identifies wildlife-dependent recreational opportunities available to the public, including opportunities for hunting, wildlife observation and photography, and environmental education and interpretation. The CCP is intended to be a dynamic document that will be adaptable to changing resource and management conditions.

Significant issues addressed in the Final CCP/EIS include: Vegetation management, wildlife management, public use, cultural resources, property, infrastructure, and refuge operations. The Service developed four alternatives for management of the Refuge: Alternative A—No Action; Alternative B—Wildlife, Habitat, and Public Use; Alternative C—Ecological Restoration; and Alternative D—Public Use. All four alternatives outline specific management objectives and strategies related to wildlife and habitat management; public use, education, and interpretation; safety; open and effective communication; working with others; and refuge operations.

Alternative B, the Service's Proposed Action, emphasizes wildlife and habitat conservation with a moderate amount of wildlife-dependent public use. Refuge-wide habitat conservation would include management of native plant communities, weeds, restoration tools, removal and revegetation of unused roads and stream crossings, management of deer and elk populations, prairie dogs, and protection of Preble's meadow jumping mouse habitat. Visitor use facilities would include about 16 miles of trails, a seasonally staffed visitor contact station, trailheads with parking, and developed overlooks. Most of the trails would use existing roads and public access would be by foot, bicycle, horse, or car. A limited public hunting program would be developed.

Public comments were requested, considered, and incorporated throughout the planning process in numerous ways. Some of the changes from the Draft CCP/EIS that resulted from public comments included changes to trail alignments, more flexible trail implementation, changes to the types of weaponry allowed for hunting, more discussion about issues related to cleanup and contamination, and additional discussion about potential impacts from transportation improvements. Public outreach has included public open houses, public hearings, individual outreach activities, planning update mailings, and Federal Register notices. Two previous notices were published in the Federal Register concerning this CCP/EIS (67 FR 54667, August 23, 2002; and 69 FR 7789, February 19, 2004).

During the Draft CCP/EIS comment period that occurred from February 19, 2004 to April 25, 2004, the Service received over 5,000 comments from about 1,000 individuals, agencies, and organizations. Comments were received through public hearing testimony, letters, emails, form letters, and petitions. All substantive issues raised in the comments were addressed in the Final CCP/EIS. Public comments will be available for review at the Front Range Community College Library, Rocky Flats Reading Room or at the Rocky Mountain Arsenal National Wildlife Refuge Visitor Center on weekends. Responses to comments will be included as a companion document with the Final CCP/EIS.

Dated: September 29, 2004.
Linda H. Kelsey,
Acting Deputy Regional Director, Region 6, Denver, Colorado.

[FR Doc. 04-27510 Filed 12-15-04; 8:45 am]

BILLING CODE 4310-55-P